DEPARTMENT OF COMMERCE

International Trade Administration

(A-570-835)

Furfuryl Alcohol from the People's Republic of China: Final Results of the Expedited Sunset Review of the Antidumping Duty Order

AGENCY: Import Administration, International Trade Administration, Department of Commerce.

SUMMARY: On April 3, 2006, the Department of Commerce (“the Department”) initiated the sunset review of the antidumping duty order on furfuryl alcohol from the People's Republic of China (“PRC”) pursuant to section 751(c) of the Tariff Act of 1930, as amended (“the Act”). The Department conducted an expedited (120-day) sunset review for this order. As a result of the sunset review, the Department finds that revocation of the antidumping duty order would be likely to lead to continuation or recurrence of dumping. The dumping margins are identified in the Final Results of Review section of this notice.

EFFECTIVE DATE: June 20, 2006.

FOR FURTHER INFORMATION CONTACT: Audrey Twyman or Brandon Farlander, AD/CVD Operations, Office 1, Import Administration, International Trade Administration, U.S. Department of Commerce, 14th Street & Constitution Avenue, NW., Washington, DC 20230; telephone: (202) 482-3534 and (202) 482-0182, respectively.

SUPPLEMENTARY INFORMATION:

Background

On April 3, 2006, the Department published the notice of initiation of the second sunset review of the antidumping duty order on furfuryl alcohol from the PRC pursuant to section 751(c) of the Act and 19 CFR 351.218(c)(2) of the Department's Regulations (“Sunset Regulations”). See Initiation of Five-year (“Sunset”) Reviews, 71 FR 16551 (April 3, 2006). The Department received the Notice of Intent to Participate from Penn Speciality Chemicals, Inc. (“the domestic interested party”), within the deadline specified in 351.218(d)(1)(i) of the Sunset Regulations. The domestic interested party claimed interested party status under section 771(9)(C) of the Act, as a manufacturer of a domestic-like product in the United States.

We received a complete substantive response from the domestic interested party within the 30-day deadline specified in 19 CFR 351.218(d)(3)(i). We received no responses from respondent interested parties. As a result, pursuant to 19 CFR 351.218(e)(1)(ii)(C)(2), the Department conducted an expedited (120-day) sunset review of the order.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes.

The product subject to this order is classifiable under subheading 2932.13.00 of the Harmonized Tariff Schedule of the United States (“HTSUS”). Although the HTSUS subheading is provided for convenience and customs purposes, our written description of the scope of this proceeding is dispositive.

Analysis of Comments Received

All issues raised in this review are addressed in the “Issues and Decision Memorandum for the Expedited Sunset Review of the Antidumping Duty Order on Furfuryl Alcohol from The People's Republic of China; Final Results” (“Decision Memo”) from Stephen J. Claeys, Deputy Assistant Secretary for Import Administration, to David M. Spooner, Assistant Secretary for Import Administration, dated August 1, 2006, which is hereby adopted by this notice. The issues discussed in the Decision Memo include the likelihood of continuation or recurrence of dumping and the magnitude of the margins likely to prevail if the order was to be revoked. Parties can find a complete discussion of all issues raised in the review and the corresponding recommendations in this public memorandum which is on file in room B-099 of the main Commerce building.

In addition, a complete version of the Decision Memo can be accessed directly on the Web at http://ia.ita.doc.gov/frn/index.html. The paper copy and electronic version of the Decision Memo are identical in content.

Final Results of Review

We determine that revocation of the antidumping duty order on furfuryl alcohol from the PRC would be likely to lead to continuation or recurrence of dumping at the following weighted-average percentage margins:

Manufacturers/Exporters/Producers | Weighted Average Margin (percent)
Qingdao Chemicals & Medicines & Health Products Import & Export Company | 50.43
Sinochem Shandong Import and Export Company | 43.54
PRC-Wide Rate | 45.27

This notice also serves as the only reminder to parties subject to administrative protective orders (“APO”) of their responsibility concerning the return or destruction of proprietary information disclosed under APO in accordance with 19 CFR 351.305 of the Department's regulations. Timely notification of the return or destruction of APO materials or conversion to judicial protective orders is hereby requested. Failure to comply with the regulations and terms of an APO is a violation which is subject to sanction.

We are issuing and publishing the results and notice in accordance with sections 751(c), 752, and 777(i)(1) of the Act.

Dated: June 14, 2006.
David M. Spooner,
Assistant Secretary for Import Administration.

[FR Doc. E6-9664 Filed 6-19-06; 8:45 am]

BILLING CODE 3510-DS-S